DEPARTMENT OF LABOR

Employment and Training Administration

Migrant and Seasonal Farmworker (MSFW) Monitoring Report and One-Stop Career Center Complaint/Referral Record: Comments

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) is soliciting comments concerning the proposed three year extension of the, Services to Migrant and Seasonal Farm Workers Report, ETA Form 5148, and the One-Stop Career Center Complaint/Referral Record, ETA Form 8429 from the current end date of September 30, 2005 to new end date of September 30, 2008.

DATES: Submit comments on or before September 9, 2005.

ADDRESSES: Send comments to: Dennis I. Lieberman, U.S. Department of Labor, Employment and Training Administration, Division of Adults and Dislocated Workers, Office of Workforce Investment, Room C-4318, 200 Constitution Avenue, NW., Washington, DC 20210 (202-693-3580—not a toll free number), fax: 202-693-3587, and e-mail address: lieberman.dennis@dol.gov.

FOR FURTHER INFORMATION CONTACT: Erik Lang, U.S. Department of Labor, Employment and Training Administration, Office of Workforce Investment, Division of U.S. Employment Service, Room S-4231, 200 Constitution Avenue, NW., Washington, DC 20210 (202-693-2916—not a toll free number), fax: 202-603-3015, and e-mail address: lang.erik@dol.gov.

SUPPLEMENTARY INFORMATION:

I. Background

Employment and Training Administration regulations at 20 CFR 651, 653 and 658 under the Wagner Peyser Act, as amended by the Workforce Investment Act of 1998, set forth requirements to ensure that Migrant and Seasonal Farmworkers (MSFWs) receive services that are qualitatively equivalent and quantitatively proportionate to the services provided to non-MSFWs. In compliance with 20 CFR 653.109, the Department of Labor established recordkeeping requirements to allow for the efficient and effective monitoring of State Workforce Agencies' (SWAs) regulatory compliance. The ETA Form 5148, Services to Migrant and Seasonal Farm Workers Report, is used to collect data which are primarily used to monitor and measure the extent and effectiveness of SWA service delivery to MSFWs. The ETA Form 8429, One-Stop Career Center Compliant Referral Record, is used to collect and document complaints filed by MSFWs and non-MSFWs pursuant to the regulatory framework established at 20 CFR 658.400.

II. Desired Focus of Comments

Currently, the ETA is soliciting comments concerning the proposed three-year extension of the Services to Migrant and Seasonal Farm Workers Report, ETA Form 5148, and the One-Stop Career Center Complaint/Referral Record, ETA Form 8429 from the current end date of September 30, 2005 to new end date of September 30, 2008:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond by including the use of appropriate automated, electronic, mechanical, or other technological collection techniques or other forms of information technology, e.g., permitting electronic submissions of responses.

A copy of the proposed information collection request (ICR) can be obtained by contacting the office listed above in the addressee section of this notice.

III. Current Actions

Type of Review: Extension of a currently approved collection.

Agency: Employment and Training Administration.

Title: Migrant and Seasonal Farmworker (MSFW) Monitoring Report and One-Stop Career Center Complaint/Referral Record.

OMB Number: 1205-0039.

Affected Public: State.

Type of Response: Mandatory.

Number of Respondents: 52.

Annual Responses: 208.

Breakdown of Burden Hours: (See Below).

Complaint Form 8429

1. Recordkeeping

Number of recordkeepers: 639.

Annual hours per record: .5.

Recordkeeper hours: 324.

2. Processing

Annual number of forms: 2,142.

Minutes per form: 8.

Processing hours: 286.

5148 Report

1. Recordkeeping

Number of recordkeepers: 639.

Annual hours per recordkeeper: 1.12.

Recordkeepers hours: 713.

2. Compilation and Reporting

Number of Respondents: 52.

Annual number of reports: 4.

Total number of reports: 208.

Minutes per report: 70.

Recordkeeping hours: 243.

Estimated Total Burden Hours: 1,566.

Total Burden Cost (operating/maintaining): $0.

Comments submitted in response to this notice will be summarized and/or included in the request for Office of Management and Budget approval of the information collection request; they will also become a matter of public record.

Dated: July 5, 2005.
Gay M. Gilbert,
Administrator, Office of Workforce Investment.

[FR Doc. 05-13545 Filed 7-8-05; 8:45 am]

BILLING CODE 4510-30-P